DEPARTMENT OF COMMERCE

[I.D. 042403B]

Submission for OMB Review; Comment Request

SUPPLEMENTARY INFORMATION: The Department of Commerce has submitted to the Office of Management and Budget (OMB) for clearance the following proposal for collection of information under the provisions of the Paperwork Reduction Act (44 U.S.C. Chapter 35).

Agency: National Oceanic and Atmospheric Administration.

Title: StormReady and TsunamiReady/StormReady Application Forms.

Form Number(s): None.

OMB Approval Number: 0648-0419.

Type of Request: Regular submission.

Burden Hours: 75.

Number of Respondents: 75.

Average Hours Per Response: 1 hour.

Needs and Uses: StormReady and TsunamiReady are voluntary programs offered as a means of providing guidance and incentive to officials interested in improving their respective hazardous weather operations. The StormReady Application Form and TsunamiReady/StormReady Application Form will be used by localities to apply for initial StormReady or TsunamiReady and StormReady recognition and renewal of that recognition every three years. The government will use the information collected by the StormReady or TsunamiReady/ StormReady Application Form to determine whether a community has met all of the criteria to receive StormReady and/or TsunamiReady recognition.

Affected Public: State, Local, or Tribal Government.

Frequency: Every 3 years.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: April 22, 2003.
Gwellnar Banks,
Management Analyst, Office of the Chief Information Officer.

[FR Doc. 03-10675 Filed 4-29-03; 8:45 am]

BILLING CODE 3510-22-S